DEPARTMENT OF TRANSPORTATION

Federal Aviation Administration

14 CFR Part 71

[Docket No. FAA-2021-0054; Airspace Docket No. 20-AGL-34]

RIN 2120-AA66

Establishment of Area Navigation (RNAV) Routes T-322, T-392, T-403, and T-405; Central United States.

AGENCY: Federal Aviation Administration (FAA), DOT.

ACTION: Final rule.

SUMMARY: This action establishes area navigation (RNAV) routes T-322, T-392, T-403, and T-405 in the central United States. The new RNAV routes expand the availability of RNAV coverage in support of transitioning the National Airspace System (NAS) from ground-based to satellite-based navigation. Additionally, a portion of the new RNAV routes provide enroute structure where VHF Omnidirectional Range (VOR) Federal airway segments were removed due to the decommissioning of Sioux City, IA; Park Rapids, MN; and Huron, SD, VORs, in support of the FAA's VOR Minimum Operational Network (MON) program.

DATES: Effective date 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it expands the availability of RNAV routes in the central United States and improves the efficient flow of air traffic within the NAS by lessening the dependency on ground-based navigation.

History

The FAA published a notice of proposed rulemaking for Docket No. FAA-2021-0054 in the Federal Register (86 FR 12129; March 2, 2021), proposing to establish T-322, T-392, T-403, and T-405 to expand the availability of RNAV routing in support of transitioning the NAS from ground-based to satellite-based navigation. Interested parties were invited to participate in this rulemaking effort by submitting written comments on the proposal. No comments were received.

United States RNAV T-routes are published in paragraph 6011 of FAA Order 7400.11E, dated July 21, 2020, and effective September 15, 2020, which is incorporated by reference in 14 CFR 71.1. The RNAV T-routes listed in this document will be published subsequently in the Order.

Differences From the NPRM

In the NPRM published in the Federal Register for the action establishing T-322, the FAA mistakenly identified the Redwood Falls, MN, VOR/DME as “RWD” in the regulatory text section describing the proposed route. The correct identifier is “RWF” and is corrected in regulatory text of this rule.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends 14 CFR part 71 by establishing RNAV routes T-322, T-392, T-403, and T-405. This action is necessary in order to expand the availability of RNAV routing in support of transitioning the NAS from ground-based to satellite-based navigation. The new T-routes are described below.

T-322: T-322 is a new RNAV route that extends between the Rapid City, SD, VOR/Tactical Air Navigation (VORTAC) and the Redwood Falls, MN, VOR/Distance Measuring Equipment (VOR/DME). This T-route provides enroute routing overlaying VOR Federal airway V-26.

T-392: T-392 is a new RNAV route that extends between the MZEEE, IA, waypoint (WP) located near the Sioux City, IA, Tactical Air Navigation (TACAN) navigation aid and the GRSIS, MN, WP located near the Fairmont, MN, DME.

T-403: T-403 is a new RNAV route that extends between the GENEO, MN, WP located near the Darwin, MN, VORTAC and the BLUOX, MN, fix located 40 NM North of the Park Rapids, MN, DME. This T-route provides enroute routing adjacent to VOR Federal airway V-171 between the Darwin, MN, VORTAC and the Alexandria, MN, VOR/DME, and overlays VOR Federal airway V-175 between the Alexandria, MN, VOR/DME and the BLUOX, MN, fix.

T-405: T-405 is a new RNAV route that extends between the FIITS, SD, WP located near the Yankton, SD, VOR/DME and the GICHI, ND, WP located near the Devils Lake, ND, VOR/DME. This T-route provides enroute routing adjacent to VOR Federal airway V-159 between the Yankton, SD, VOR/DME and the Huron, SD, DME; enroute routing adjacent to VOR Federal airway V-15 between the Huron, SD, DME and the Aberdeen, SD, VOR/DME; and enroute routing adjacent to VOR Federal airway V-170 between the Aberdeen, SD, VOR/DME and the Devils Lake, ND, VOR/DME.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of establishing RNAV routes T-322, T-392, T-403, and T-405, to expand the availability of RNAV routing in support of transitioning the NAS from ground-based to satellite-based navigation, qualifies for categorical exclusion under the National Environmental Policy Act (42 U.S.C. 4321 et seq) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6011 United States Area Navigation Routes.

* * * * *

T-322 Rapid City, SD (RAP) to Redwood Falls, MN (RWF) [New]
Rapid City, SD (RAP) | VORTAC | (Lat. 43°58′33.74″ N, long. 103°00′44.38″ W)
Philip, SD (PHP) | VOR/DME | (Lat. 44°03′29.66″ N, long. 101°39′51.10″ W)
Pierre, SD (PIR) | VORTAC | (Lat. 44°23′40.40″ N, long. 100°09′46.11″ W)
DAKPE, SD | WP | (Lat. 44°25′58.37″ N, long. 098°42′23.05″ W)
Redwood Falls, MN (RWF) | VOR/DME | (Lat. 44°28′02.19″ N, long. 095°07′41.63″ W)
* * * * * * *
T-392 MZEEE, IA to GRSIS, MN [New]
MZEEE, IA | WP | (Lat. 42°20′40.66″ N, long. 096°19′24.54″ W)
KAATO, IA | WP | (Lat. 42°35′06.89″ N, long. 095°58′53.08″ W)
BERRG, IA | WP | (Lat. 43°08′17.21″ N, long. 095°10′46.46″ W)
GRSIS, MN | WP | (Lat. 43°38′45.54″ N, long. 094°25′21.17″ W)
T-403 GENEO, MN to BLUOX, MN [New]
GENEO, MN | WP | (Lat. 45°05′15.37″ N, long. 094°27′14.30″ W)
Alexandria, MN (AXN) | VOR/DME | (Lat. 45°57′30.20″ N, long. 095°13′57.48″ W)
Park Rapids, MN (PKD) | DME | (Lat. 46°53′53.34″ N, long. 095°04′15.21″ W)
BLUOX, MN | WP | (Lat. 47°34′33.13″ N, long. 095°01′29.11″ W)
T-405 FIITS, SD TO GICHI, ND [New]
FIITS, SD | WP | (Lat. 42°55′06.67″ N, long. 097°23′06.31″ W)
Mitchell, SD (MHE) | VOR/DME | (Lat. 43°46′37.28″ N, long. 098°02′15.28″ W)
DIDDL, SD | WP | (Lat. 44°26′24.32″ N, long. 098°18′39.06″ W)
Aberdeen, SD (ABR) | VOR/DME | (Lat. 45°25′02.48″ N, long. 098°22′07.39″ W)
Jamestown, ND (JMS) | VOR/DME | (Lat. 46°55′58.34″ N, long. 098°40′43.57″ W)
FARRM, ND | FIX | (Lat. 47°29′14.17″ N, long. 099°01′34.50″ W)
GICHI, ND | WP | (Lat. 48°06′54.20″ N, long. 098°54′45.14″ W)

Issued in Washington, DC, on July 21, 2021.
George Gonzalez,
Acting Manager, Rules and Regulations Group.

[FR Doc. 2021-15838 Filed 7-26-21; 8:45 am]

BILLING CODE 4910-13-P